COMMISSION ON CIVIL RIGHTS

Sunshine Act Meeting

AGENCY: United States Commission on Civil Rights.

ACTION: Notice of briefing and business meeting.

DATE AND TIME: Friday, November 9, 2012; 9:30 a.m. EDT.

PLACE: 1331 Pennsylvania Ave. NW., Suite 1150, Washington, DC 20425.

Briefing Agenda—9:30 a.m.-1:30 p.m.

This briefing is open to the public.

Topic: The Federal Civil Rights Engagement With Arab and Muslim American Communities Post 9/11.

I. Introductory Remarks by Chairman

II. Panel I: Arab & Muslim American Civil Rights Organizations Panel—Speakers' Remarks and Questions From Commissioners

III. Panel II: Academic Scholar Panel—Speakers' Remarks and Questions From Commissioners

IV. Panel III: Government Panel—Speakers' Remarks and Questions From Commissioners

V. Adjourn Briefing

Meeting Agenda—1:30 p.m.

I. Approval of Agenda

II. Program Planning

• Discussion and Approval of Discovery Plan for the 2013 Statutory Enforcement Report—Sexual Assault in the Military

III. Approval of State Advisory Committee Slates

• Massachusetts

• Texas

• Nebraska SAC Chair

IV. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: October 26, 2012.
TinaLouise Martin,
Director of Management.

[FR Doc. 2012-26842 Filed 10-29-12; 11:15 am]

BILLING CODE 6335-01-P